PACIFIC NORTHWEST ELECTRIC POWER AND CONSERVATION PLANNING COUNCIL

Amended Columbia River Basin Fish and Wildlife Program

AGENCY: Pacific Northwest Electric Power and Conservation Planning Council.

ACTION: Notice of final action.

SUMMARY: Pursuant to Section 4(h) of the Northwest Power Act, the Council has amended its 2014 Columbia River Basin Fish and Wildlife Program by adding a 2020 Addendum to that 2014 Program.

ADDRESSES: The 2020 Addendum to the 2014 Program is available for review on the Council's website at https://www.nwcouncil.org/reports/2014-columbia-river-basin-fish-and-wildlife-program. The amendment process web page, which includes links to the recommendations, comments, and all other documents and steps in the amendment process may be found at https://www.nwcouncil.org/fw/program/2020addendum.

FOR FURTHER INFORMATION CONTACT: John Shurts, General Counsel, (503) 222-5161, jshurts@nwcouncil.org.

SUPPLEMENTARY INFORMATION: Pursuant to Section 4(h) of the Northwest Power Act, in May 2018 the Council requested in writing that state and federal fish and wildlife agencies, the region's Indian tribes, and other interested parties submit written recommendations for amendments to the Council's 2014 Columbia River Basin Fish and Wildlife Program. In the call for recommendations, the Council recognized the accomplishments of the program over the past 36 years; noted several regional developments that have been influenced by and may, in turn, influence the Council's program; and identified the opportunity presented during this amendment process to concentrate on specific program areas that would allow the program to progress in implementation and reporting on program performance. The Council received 51 sets of recommendations by the December 13, 2018 deadline. The Council then sought and received public comment on the recommendations as required by Section 4(h)(4) of the Act.

Based on the recommendations, comments and other information, the Council proposed to amend the program by adding an addendum to the current version of the program rather than by wholesale amendments to the program. Thus, in July 2019, the Council released a draft 2020 Addendum to the 2014 Program for public review and comment. The Council took formal public comment on the draft 2020 Program Addendum through October 18, 2019. The Council received 114 written comments, including comments from seven state fish and wildlife agencies and other state and state-supported agencies; 13 Columbia Basin Tribes and tribal organizations; four federal fish and wildlife and other federal agencies; four Bonneville customers, other utilities and utility organizations, other river users and user groups; nine environmental and fishing groups and similar non-governmental organizations; and hundreds of individuals. During this comment period, the Council also held eight public hearings, one large-group technical consultation relating to the topics in Part I of the draft Addendum, and engaged in a number of consultations, particularly with state and federal fish and wildlife agencies and tribes, individually and in groups.

One set of comments particularly from state fish and wildlife agencies and Indian tribes asked the Council not to adopt Part I of the 2020 Addendum, concerning Program Performance, on the Council's expected schedule, that is, by January 2020, and instead engage in further collaborative efforts on the topics covered in that part. The Council made a formal decision at its regular monthly meeting in December 2019 to extend the time for acting on the recommendations relevant to Program Performance and finalizing Part I of the 2020 Addendum.

The Council then proceeded on schedule to finalize Part II of the 2020 Addendum on Program Implementation at its regular January 2020 Council meeting. The Council completed the process with regard to Part II of the 2020 Addendum by adopting in March 2020 as part of the program a document containing findings on relevant program amendment recommendations and responses to comments.

With regard to Part I of the 2020 Addendum, the Council engaged in a further public process, including hosting eight workshops from January through April 2020. The discussions at the workshops addressed technical comments received on the draft, as well as some of the policy issues that had been identified during the previous public comment period. Following the workshops, the Council revised its draft of Part I of the 2020 Addendum and released the revised draft for public review and comment in May 2020. Public comment of the revised draft of Part I concluded on June 22, 2020. The Council received twenty-two sets of comments on the revised draft of Part I from state and state supported agencies, tribes and tribal organizations, one federal agency, environmental groups, one customer group, and a few individuals. The Council also held a public hearing via webinar and teleconference on June 15, 2020 that was advertised in Idaho, Montana, Washington and Oregon.

The Council then adopted the final version of Part I of the 2020 Addendum at its regularly scheduled August 2020 meeting, completing the Council's work on the text of the 2020 Addendum. The Council completed the program amendment process by adopting, at its regularly scheduled meeting in October 2020, as part of the program a document containing findings on program amendment recommendations and responses to comments relevant to Part I. Following the adoption of Part I by the Council, the Council knit together into one final document the pieces of the 2020 Addendum.

The Council decided on final program amendments after consideration of the original program amendment recommendations, supporting documents and information that came with the recommendations, comments offered on the recommendations, comments submitted on the original draft program addendum as well as information and comments received by the Council during the extended workshop and public review of draft Part I and then on the revised draft of Part I, and other views and information obtained through public comment and discussions with state and federal fish and wildlife agencies, tribes, Bonneville, other federal agencies, Bonneville customers, and others.

Authority: (Authority: 16 U.S.C. 839 et seq.)

John Shurts,
General Counsel.

[FR Doc. 2020-28428 Filed 12-22-20; 8:45 am]

BILLING CODE P